DEPARTMENT OF HEALTH AND HUMAN SERVICES

Centers for Medicare & Medicaid Services

42 CFR Part 414

Payment for Part B Medical and Other Health Services

CFR Correction

In Title 42 of the Code of Federal Regulations, Parts 414 to 429, revised as of October 1, 2014, on page 21, in § 414.60, correct paragraph (a)(1) to read as follows:

§ 414.60 Payment for the services of CRNAs.

(a) * * *

(1) The allowance for an anesthesia service furnished by a medically directed CRNA is based on a fixed percentage of the allowance recognized for the anesthesia service personally performed by the physician alone, as specified in § 414.46(d)(3); and

* * * * *

[FR Doc. 2015-21003 Filed 8-24-15; 8:45 am]

BILLING CODE 1505-01-D